DEPARTMENT OF DEFENSE

Department of the Army; Corps of Engineers

Grant of Exclusive License of Partially Exclusive License

AGENCY: U.S. Army Corps of Engineers, DoD.

ACTION: Notice (correction).

SUMMARY: In the previous Federal Register notice (Vol. 64, No. 233, pages 68090-68091) Monday, December 6, 1999 make the following corrections.

On page 68091, column one, thirtieth line in the Supplementary paragraph, the words addressing “Concrete Technology Corporation, P.O. Box 1159, Tacoma, WA 98401” was erroneously listed. The correct wording is “W.F. Baird and Associates, 2981 Yarmouth Greenway, Madison, WI 53711.”

FOR FURTHER INFORMATION CONTACT: For further information, please refer to the previous point of contact official in the original notice.

SUPPLEMENTARY INFORMATION: None.

Gregory D. Showalter,
Army Federal Register Liaison Officer.

[FR Doc. 00-1820 Filed 1-25-00; 8:45 am]

BILLING CODE 3710-92-M